DEPARTMENT OF TRANSPORTATION

Federal Aviation Administration

14 CFR Part 97

[Docket No. 31001; Amdt. No. 3629]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective February 27, 2015. The compliance date for each SIAP, associated Takeoff Minimums, and ODP is specified in the amendatory provisions.

The incorporation by reference of certain publications listed in the regulations is approved by the Director of the Federal Register as of February 27, 2015.

ADDRESSES: Availability of matters incorporated by reference in the amendment is as follows:

For Examination

1. U.S. Department of Transportation, Docket Ops-M30, 1200 New Jersey Avenue SE., West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd. Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part § 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFRs and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (air).

Issued in Washington, DC, on January 30, 2015.
John Duncan,
Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 5 March 2015

San Francisco, CA, San Francisco Intl, ILS OR LOC RWY 28L, ILS RWY 28L (SA CAT II), Amdt 25

San Jose, CA, Norman Y. Mineta San Jose Intl, ILS OR LOC/DME RWY 12R, Amdt 8

San Jose, CA, Norman Y. Mineta San Jose Intl, ILS OR LOC/DME RWY 30L, ILS RWY 30L (SA CAT I), Amdt 23

San Jose, CA, Norman Y. Mineta San Jose Intl, RNAV (GPS) Y RWY 12L, Amdt 3

San Jose, CA, Norman Y. Mineta San Jose Intl, RNAV (GPS) Y RWY 12R, Amdt 3

San Jose, CA, Norman Y. Mineta San Jose Intl, RNAV (GPS) Y RWY 30L, Amdt 3

San Jose, CA, Norman Y. Mineta San Jose Intl, RNAV (RNP) Z RWY 12L, Amdt 1

San Jose, CA, Norman Y. Mineta San Jose Intl, RNAV (RNP) Z RWY 12R, Amdt 2

San Jose, CA, Norman Y. Mineta San Jose Intl, RNAV (RNP) Z RWY 30L, Amdt 2

San Jose, CA, Norman Y. Mineta San Jose Intl, RNAV (RNP) Z RWY 30R, Amdt 1

San Jose, CA, Norman Y. Mineta San Jose Intl, VOR RWY 12R, Amdt 5

San Jose, CA, Norman Y. Mineta San Jose Intl, VOR/DME RWY 30L, Amdt 3

San Jose, CA, Norman Y. Mineta San Jose Intl, VOR/DME RWY 30R, Amdt 1

Panama City, FL, Northwest Florida Beaches Intl, VOR/DME RWY 16, Orig

Panama City, FL, Northwest Florida Beaches Intl, VOR/DME RWY 34, Orig

Augusta, GA, Daniel Field, RNAV (GPS) RWY 11, Amdt 1

Donalsonville, GA, Donalsonville Muni, RNAV (GPS) RWY 1, Amdt 1B

Donalsonville, GA, Donalsonville Muni, RNAV (GPS) RWY 19, Amdt 1A

Fitzgerald, GA, Fitzgerald Muni, LOC/NDB RWY 2, Amdt 1

Fitzgerald, GA, Fitzgerald Muni, NDB RWY 2, Amdt 1

Fitzgerald, GA, Fitzgerald Muni, RNAV (GPS) RWY 2, Amdt 1

Fitzgerald, GA, Fitzgerald Muni, Takeoff Minimums and Obstacle DP, Amdt 1A

Champaign/Urbana, IL, University of Illinois-Willard, ILS OR LOC RWY 32R, Amdt 13

Champaign/Urbana, IL, University of Illinois-Willard, NDB RWY 32R, Amdt 11A

Champaign/Urbana, IL, University of Illinois-Willard, RADAR 1, Amdt 6B

Champaign/Urbana, IL, University of Illinois-Willard, RNAV (GPS) RWY 4, Orig-B

Champaign/Urbana, IL, University of Illinois-Willard, RNAV (GPS) RWY 14L, Orig-A

Champaign/Urbana, IL, University of Illinois-Willard, RNAV (GPS) RWY 18, Orig-A

Champaign/Urbana, IL, University of Illinois-Willard, RNAV (GPS) RWY 22, Amdt 1A

Champaign/Urbana, IL, University of Illinois-Willard, RNAV (GPS) RWY 32R, Orig-A

Champaign/Urbana, IL, University of Illinois-Willard, RNAV (GPS) RWY 36, Orig-A

Champaign/Urbana, IL, University of Illinois-Willard, Takeoff Minimums and Obstacle DP, Orig-A

Muncie, IN, Delaware County Rgnl, RNAV (GPS) RWY 3, Orig

Muncie, IN, Delaware County Rgnl, RNAV (GPS) RWY 21, Amdt 1

Terre Haute, IN, Terre Haute Intl-Hulman Field, ILS OR LOC RWY 5, Amdt 23

Winchester, IN, Randolph County, RNAV (GPS) RWY 8, Amdt 1

Winchester, IN, Randolph County, RNAV (GPS) RWY 26, Amdt 1

Baltimore, MD, Baltimore/Washington Intl Thurgood Marshall, ILS OR LOC RWY 15R, Amdt 16

Baltimore, MD, Baltimore/Washington Intl Thurgood Marshall, ILS OR LOC RWY 33L, ILS RWY 33L (SA CAT I), ILS RWY 33L (SA CAT II), Amdt 12

Baltimore, MD, Baltimore/Washington Intl Thurgood Marshall, Takeoff Minimums and Obstacle DP, Amdt 10

Princeton, ME, Princeton Muni, RNAV (GPS) RWY 15, Amdt 1

Escanaba, MI, Delta County, ILS OR LOC RWY 9, Amdt 3

Sault Ste Marie, MI, Chippewa County Intl, ILS OR LOC RWY 16, Amdt 8B

Sault Ste Marie, MI, Chippewa County Intl, NDB RWY 34, Amdt 5A

Sault Ste Marie, MI, Chippewa County Intl, RNAV (GPS) RWY 10, Orig-A

Sault Ste Marie, MI, Chippewa County Intl, RNAV (GPS) RWY 16, Amdt 1A

Sault Ste Marie, MI, Chippewa County Intl, RNAV (GPS) RWY 28, Orig-A

Sault Ste Marie, MI, Chippewa County Intl, RNAV (GPS) RWY 34, Amdt 1A

Sault Ste Marie, MI, Chippewa County Intl, Takeoff Minimums and Obstacle DP, Orig-A

Minneapolis, MN, Minneapolis-St Paul Intl/Wold-Chamberlain, ILS OR LOC RWY 12L, ILS RWY 12L (SA CAT I), ILS RWY 12L (CAT II), ILS RWY 12L (CAT III), Amdt 10

Minneapolis, MN, Minneapolis-St Paul Intl/Wold-Chamberlain, ILS OR LOC RWY 12R, ILS RWY 12R (SA CAT I), ILS RWY 12R (CAT II), ILS RWY 12R (CAT III), Amdt 11

Minneapolis, MN, Minneapolis-St Paul Intl/Wold-Chamberlain, ILS V RWY 30L (CONVERGING), Amdt 2

Minneapolis, MN, Minneapolis-St Paul Intl/Wold-Chamberlain, ILS V RWY 30R (CONVERGING), Amdt 3

Minneapolis, MN, Minneapolis-St Paul Intl/Wold-Chamberlain, ILS Z OR LOC RWY 30L, ILS Z RWY 30L (SA CAT I), ILS Z RWY 30L (CAT II), Amdt 46

Minneapolis, MN, Minneapolis-St Paul Intl/Wold-Chamberlain, ILS Z OR LOC RWY 30R, Amdt 15

Minneapolis, MN, Minneapolis-St Paul Intl/Wold-Chamberlain, RNAV (GPS) Z RWY 12L, Amdt 4

Minneapolis, MN, Minneapolis-St Paul Intl/Wold-Chamberlain, RNAV (GPS) Z RWY 12R, Amdt 3

Minneapolis, MN, Minneapolis-St Paul Intl/Wold-Chamberlain, RNAV (GPS) Z RWY 30R, Amdt 3

Tupelo, MS, Tupelo Rgnl, COPTER VOR 023, Orig

Tupelo, MS, Tupelo Rgnl, ILS Y OR LOC Y RWY 36, Orig

Tupelo, MS, Tupelo Rgnl, ILS Z OR LOC Z RWY 36, Amdt 10

Tupelo, MS, Tupelo Rgnl, NDB RWY 36, Amdt 5

Tupelo, MS, Tupelo Rgnl, RNAV (GPS) RWY 18, Amdt 1

Tupelo, MS, Tupelo Rgnl, RNAV (GPS) RWY 36, Amdt 1

Tupelo, MS, Tupelo Rgnl, Takeoff Minimums and Obstacle DP, Amdt 1

Tupelo, MS, Tupelo Rgnl, VOR/DME RWY 18, Amdt 1

Oxford, NC, Henderson-Oxford, LOC RWY 6, Amdt 2

Oxford, NC, Henderson-Oxford, NDB RWY 6, Amdt 3

Oxford, NC, Henderson-Oxford, RNAV (GPS) RWY 6, Amdt 1

Oxford, NC, Henderson-Oxford, RNAV (GPS) RWY 24, Amdt 1

Oxford, NC, Henderson-Oxford, Takeoff Minimums and Obstacle DP, Amdt 1

Valentine, NE., Miller Field, RNAV (GPS) RWY 3, Orig

Valentine, NE., Miller Field, RNAV (GPS) RWY 14, Amdt 2

Valentine, NE., Miller Field, RNAV (GPS) RWY 21, Orig

Somerville, NJ, Somerset, RNAV (GPS) RWY 30, Amdt 2

East Hampton, NY, East Hampton, RNAV (GPS) X RWY 10, Amdt 1

East Hampton, NY, East Hampton, RNAV (GPS) Y RWY 10, Amdt 1

East Hampton, NY, East Hampton, RNAV (GPS) Y RWY 28, Amdt 1

East Hampton, NY, East Hampton, RNAV (GPS) Z RWY 10, Amdt 1

East Hampton, NY, East Hampton, RNAV (GPS) Z RWY 28, Orig

New York, NY, John F Kennedy Intl, RNAV (GPS) Z RWY 13R, Orig

Cambridge, OH, Cambridge Muni, Takeoff Minimums and Obstacle DP, Amdt 3

Cleveland, OH, Cleveland-Hopkins Intl, ILS OR LOC RWY 6L, ILS RWY 6L (CAT II), ILS RWY 6L (CAT III), Amdt 2F

Cleveland, OH, Cleveland-Hopkins Intl, ILS OR LOC RWY 28, Amdt 24C

Cleveland, OH, Cleveland-Hopkins Intl, ILS OR LOC/DME RWY 24R, ILS RWY 24R (CAT II), ILS RWY 24R (CAT III), ILS RWY 24R (SA CAT I), Amdt 5C

Cleveland, OH, Cleveland-Hopkins Intl, RNAV (GPS) RWY 10, Amdt 3A

Lorain/Elyria, OH, Lorain County Rgnl, ILS OR LOC RWY 7, Amdt 7

Lorain/Elyria, OH, Lorain County Rgnl, RNAV (GPS) RWY 7, Orig-A

Port Clinton, OH, Carl R Keller Field, NDB RWY 27, Amdt 14

Port Clinton, OH, Carl R Keller Field, RNAV (GPS) RWY 9, Amdt 1

Port Clinton, OH, Carl R Keller Field, RNAV (GPS) RWY 27, Amdt 1

Port Clinton, OH, Carl R Keller Field, VOR/DME-A, Amdt 9A, CANCELED

Washington Court House, OH, Fayette County, RNAV (GPS) RWY 23, Amdt 1

Houston, TX, George Bush Intercontinental/Houston, RNAV (RNP) Y RWY 8L, Orig-A

Houston, TX, Lone Star Executive, ILS OR LOC RWY 14, Amdt 3

Houston, TX, Lone Star Executive, NDB RWY 14, Amdt 3

Houston, TX, Lone Star Executive, RNAV (GPS) RWY 14, Amdt 1

Houston, TX, Lone Star Executive, RNAV (GPS) RWY 32, Amdt 2

Seattle, WA, Seattle-Tacoma Intl, RNAV (GPS) Y RWY 16L, Amdt 4A

Effective 2 April 2015

Seneca Falls, NY, Finger Lakes Rgnl, RNAV (GPS) RWY 1, Amdt 3A

RESCINDED: On January 26, 2015 (80 FR 3879), the FAA published an Amendment in Docket No. 30995, Amdt No. 3623, to Part 97 of the Federal Aviation Regulations under section 97.33. The following entries for Loup City, NE., effective March 5, 2015 are hereby rescinded in their entirety:

Loup City, NE., Loup City Muni, RNAV (GPS) RWY 16, Orig

Loup City, NE., Loup City Muni, RNAV (GPS) RWY 34, Orig

[FR Doc. 2015-03920 Filed 2-26-15; 8:45 am]

BILLING CODE 4910-13-P